DEPARTMENT OF HEALTH AND HUMAN SERVICES

Administration for Children and Families

Submission for OMB Review; Comment Request

Title: Study of Coaching Practices in Early Care and Education Settings (SCOPE).

OMB No.: New Collection.

Description: The Administration for Children and Families (ACF) at the U.S. Department of Health and Human Services (HHS) seeks approval to collect descriptive information for the Study of Coaching Practices in Early Care and Education Settings (SCOPE) project. The goal of this information collection is to identify how professional development coaching practices for early care and education (ECE) providers are implemented and vary in ECE classrooms serving children supported by Child Care and Development Fund (CCDF) subsidies or Head Start grants. This study will focus primarily on coaching used for delivering professional development services to ECE teachers and caregivers to improve knowledge and practice in center-based classrooms and family child care (FCC) homes serving preschool-age children. This study aims to advance understanding of how core features of coaching are implemented in ECE classrooms, how the features may vary by key contextual factors and implementation drivers, and which are ripe for more rigorous evaluation. The study tasks will include gathering information to inform selection of states in which to conduct the study, designing and conducting a descriptive study to examine the occurrence and variability of coaching features in ECE classrooms, and conducting case studies to examine program or systems-level drivers of coaching and the features being implemented.

Respondents: State administrators knowledgeable about coaching and coaching funders or providers, ECE center directors, coaches, teachers, and FCC providers.

Annual Burden Estimates
Instrument | Total number of respondents | Annual number of respondents | Number of responses per respondent | Average burden hours per response | Annual burden hours
State coaching informant interview protocol | 45 | 23 | 1 | 1 | 23
ECE setting eligibility screener | 173 | 87 | 1 | 0.25 | 22
Center director survey | 60 | 30 | 1 | 0.5 | 15
Coach survey | 90 | 45 | 1 | 0.5 | 23
Teacher/FCC provider survey | 172 | 86 | 1 | 0.58 | 50
Center director semi-structured interview protocol | 12 | 6 | 1 | 1.5 | 9
Coach semi-structured interview protocol | 12 | 6 | 1 | 1 | 6
Teacher/FCC provider semi-structured interview protocol | 12 | 6 | 1 | 1 | 6
Coach supervisor semi-structured interview protocol | 12 | 6 | 1 | 0.5 | 3

Estimated Total Annual Burden Hours: 157

Additional Information: Copies of the proposed collection may be obtained by writing to the Administration for Children and Families, Office of Planning, Research and Evaluation, 330 C Street, SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2018-06684 Filed 4-2-18; 8:45 am]

BILLING CODE 4184-22-P